GENERAL SERVICES ADMINISTRATION

Office of Governmentwide Policy; Cancellation of an Optional Form by the Department of State

AGENCY: General Services Administration.

ACTION: Notice.

SUMMARY: The Department of State is cancelling the following Optional Form because of low demand in the Federal Supply Service: OF 144, Temporary Duty (TDY) Official Travel Authorization.

FOR FURTHER INFORMATION CONTACT: Mr. Charles Cunnigham, Department of State, 202.312-9605.

DATES: Effective November 12, 2003.

Dated: November 3, 2003.
Barbara M. Williams,
Deputy Standard and Optional Forms Management Officer, General Services Administration.

[FR Doc. 03-28288 Filed 11-10-03; 8:45 am]

BILLING CODE 6820-34-M